DEPARTMENT OF LABOR

Employment and Training Administration

[TA-W-64,449]

Whirlpool Corporation, Jackson Dishwashing Products Division, Including On-Site Leased Workers From Personnel Placements, Refreshments, Inc., Murray Guard, Inc., Crossgate Janitorial, and Aerotek, Jackson, TN; Amended Certification Regarding Eligibility To Apply for Worker Adjustment Assistance and Alternative Trade Adjustment Assistance

In accordance with Section 223 of the Trade Act of 1974 (19 U.S.C. 2273), and Section 246 of the Trade Act of 1974 (26 U.S.C. 2813), as amended, the Department of Labor issued a Certification of Eligibility to Apply for Worker Adjustment Assistance and Alternative Trade Adjustment Assistance on January 30, 2009, applicable to workers of Whirlpool Corporation, Jackson Dishwashing Products Division, Jackson, Tennessee including on-site leased workers from Personnel Placements, Refreshments, Inc., Murray Guard, Inc., and Crossgate Janitorial. The notice was published in the Federal Register on February 23, 2009 (74 FR 8115).

At the request of a company official, the Department reviewed the certification for workers of the subject firm. The workers are engaged in the production of dishwashing machines.

New information shows that workers leased from Aerotek were employed on-site at the Jackson, Tennessee location of Whirlpool Corporation, Jackson Dishwashing Products Division. The Department has determined that these workers were sufficiently under the control of the subject firm to be considered leased workers.

Based on these findings, the Department is amending this certification to include workers leased from Aerotek working on-site at the Jackson, Tennessee location of the subject firm.

The intent of the Department's certification is to include all workers employed at Whirlpool Corporation, Jackson Dishwashing Products Division, Jackson, Tennessee who were adversely affected by increased imports of dishwashing machines.

The amended notice applicable to TA-W-64,449 is hereby issued as follows:

All workers of Whirlpool Corporation, Jackson Dishwashing Products Division, Jackson, Tennessee including on-site leased workers from Personnel Placements, Refreshments, Inc., Murray Guard, Inc., Crossgate Janitorial, and Aerotek, who became totally or partially separated from employment on or after November 14, 2007 through January 30, 2011, are eligible to apply for adjustment assistance under Section 223 of the Trade Act of 1974, and are also eligible to apply for alternative trade adjustment assistance under Section 246 of the Trade Act of 1974.

Signed at Washington, DC, this 8th day of April 2009.
Linda G. Poole,
Certifying Officer, Division of Trade Adjustment Assistance.

[FR Doc. E9-8697 Filed 4-15-09; 8:45 am]

BILLING CODE 4510-FN-P